INTERNATIONAL TRADE COMMISSION

[Investigation No. 337-TA-970]

Certain Height Adjustable Desk Platforms and Components Thereof Commission Determination Not To Review an Initial Determination Granting a Joint Motion To Terminate the Investigation on the Basis of Settlement; Termination of Investigation

AGENCY: U.S. International Trade Commission.

ACTION: Notice.

SUMMARY: Notice is hereby given that the U.S. International Trade Commission has determined not to review the presiding administrative law judge's (“ALJ”) initial determination (“ID”) (Order No. 14) granting the joint motion of complainant Varidesk LLC of Coppell, Texas (“Varidesk”) and respondent Brunswick Corp. of Lake Forest, Illinois (“Brunswick”) to terminate the above-referenced investigation on the basis of a patent license, and settlement and release agreement. The investigation is terminated.

FOR FURTHER INFORMATION CONTACT: Megan M. Valentine, Office of the General Counsel, U.S. International Trade Commission, 500 E Street SW., Washington, DC 20436, telephone (202) 708-2301. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on November 6, 2015, based on a Complaint filed by Varidesk, as supplemented and amended. 80 FR 68877-78 (Nov. 6, 2015). The Complaint alleges violations of section 337 of the Tariff Act of 1930, as amended, 19 U.S.C. 1337 (“section 337”), in the importation into the United States, the sale for importation, and the sale within the United States after importation of certain height adjustable desk platforms and components thereof by reason of infringement of certain claims of U.S. Patent No. 9,113,703. The Complaint further alleges the existence of a domestic industry. The Commission's Notice of Investigation named Brunswick as the only respondent. The Office of Unfair Import Investigations (“OUII”) was also named as a party to the investigation.

On February 17, 2016, Varidesk and Brunswick filed a joint motion to terminate this investigation based on a patent license, and settlement and release agreement. On February 25, 2016, OUII filed a response supporting the motion.

On February 25, 2016, the ALJ issued the subject ID, granting the joint motion for termination of the investigation. The ALJ found that the joint motion complied with the requirements of Commission Rule 210.21(b)(1) and that granting the motion would not be contrary to the public interest.

No petitions for review of the subject ID were filed.

The Commission has determined not to review the ID.

The authority for the Commission's determination is contained in section 337 of the Tariff Act of 1930, as amended (19 U.S.C. 1337), and in Part 210 of the Commission's Rules of Practice and Procedure (19 CFR part 210).

By order of the Commission.
Issued: March 22, 2016.
Lisa R. Barton,
Secretary to the Commission.

[FR Doc. 2016-06808 Filed 3-24-16; 8:45 am]

BILLING CODE 7020-02-P